NATIONAL AERONAUTICS AND SPACE ADMINISTRATION

[Notice 00-086]

Agency Information Collection: Submission for OMB Review, Comment Request

AGENCY: National Aeronautics and Space Administration (NASA).

SUMMARY: The National Aeronautics and Space Administration has submitted to the Office of Management and Budget (OMB) the following proposal for the collection of information under the provisions of the Paperwork Reduction Act (44 U.S.C. Chapter 35).

DATES: Comments on this proposal should be received on or before August 31, 2000.

ADDRESSES: All comments should be addressed to Ms. Lois Ryno, Goddard Space Flight Center, National Aeronautics and Space Administration, Greenbelt Road, Greenbelt, MD 20771-0001.

FOR FURTHER INFORMATION CONTACT: Ms. Carmela Simonson, NASA Reports Officer, (202) 358-1223.

Reports

Title: Locator and Information Services Tracking System (LISTS).

OMB Number: 2700-0064.

Type of Review: Extension.

Need and Uses: The LIST System is used primarily to support services on the Center dependent upon accurate locator-type information.

Affected Public: Individuals or households.

Estimated Number of Respondents: 8,456.

Responses Per Respondent: 1.

Estimated Annual Responses: 8,456.

Estimated Hours Per Request: .083.

Estimated Annual Burden Hours: 702.

Frequency of Report: As required.

David B. Nelson,
Deputy Chief Information Officer, Office of the Administrator.

[FR Doc. 00-19331 Filed 7-31-00; 8:45 am]

BILLING CODE 7510-01-P